DEPARTMENT OF HOUSING AND URBAN DEVELOPMENT

[Docket No. FR-4901-N-04]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this notice. Included in the request for review should be the property address (including ZIP Code), the date of publication in the Federal Register, the landholding agency, and the property number.

For more information regarding particular properties identified in this notice (i.e., acreage, floor plan, existing sanitary facilities, exact street address), providers should contact the appropriate landholding agencies at the following addresses: Energy: Mr. Tom Knox, Department of Energy, Office of Engineering & Construction Management, CR-80, Washington, DC 20585; (202) 586-8715; GSA: Mr. Brian K. Polly, Assistant Commissioner, General Services Administration, Office of Property Disposal, 18th and F Streets, NW., Washington, DC 20405; (202) 501-0052; Interior: Ms. Linda Tribby, Acquisition & Property Management, Department of the Interior, 1849 C Street, NW., MS5512, Washington, DC 20240; (202) 219-0728; Navy: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: January 15, 2004.
John D. Garrity,
Director, Office of Special Needs Assistance Programs.

TITLE V, FEDERAL SURPLUS PROPERTY PROGRAM, FEDERAL REGISTER REPORT FOR 1/23/2004

Suitable/Available Properties

Buildings (by State)

Georgia

East Parcel

Boyett Village Family

Housing Complex

Maple Avenue

Albany Co: GA

Landholding Agency: GSA

Property Number: 54200410003

Status: Surplus

Comment: 119 residential units & support facilities, possible lead based paint, utility upgrade required by local utility commission (estimates range from $1.6 million to $2.7 million)

GSA Number: 4-N-GA-581B

West Parcel

Boyett Village Family

Housing Complex

Maple Avenue

Albany Co: GA

Landholding Agency: GSA

Property Number: 54200410004

Status: Surplus

Comment: 300 residential units & support facilities, possible lead based paint, utility upgrade required by local utility commission (estimates range from $1.6 million to $2.7 million)

GSA Number: 4-N-GA-581B

Land (by State)

Alaska

White Alice Site

Tin City Co: AK 99762-

Landholding Agency: GSA

Property Number: 54200410001

Status: Excess

Comment: 6.31 acres w/4 buildings and 2 large radar dishes, most recent use—communications, remote area

GSA Number: 9-D-AK-764

Arizona

0.44 acre N. of Buckeye Road

Avondale Co: Maricopa, AZ 85323-

Property Number: 61200410001

Status: Excess

Comment: 20 foot wide

Unsuitable Properties

Buildings (by State)

Idaho

TAN 648

Idaho Natl Eng & Env Lab

Scoville Co: Butte ID 83415-

Landholding Agency: Energy

Property Number: 41200410001

Status: Excess

Reason: contamination

New Mexico

Bldgs. 447, 1483

Los Alamos Natl Laboratory

Los Alamos Co: NM

Landholding Agency: Energy

Property Number: 41200410002

Status: Excess

Reasons: Secured Area, Extensive deterioration

Oregon

Bldg. 0012-0410-00

Homedale Road

Klamath Falls Co: Klamath OR 97603-

Landholding Agency: Interior

Property Number: 61200410002

Status: Unutilized

Reason: Extensive deterioration

Bldg. 0012-0411-00

Homedale Road

Klamath Falls Co: Klamath OR 97603-

Landholding Agency: Interior

Property Number: 61200410003

Status: Unutilized

Reason: Extensive deterioration

Bldg. 0012-0412-00

Homedale Road

Klamath Falls Co: Klamath OR 97603-

Landholding Agency: Interior

Property Number: 61200410004

Status: Unutilized

Reason: Extensive deterioration

Texas

5 Bldgs.

Pantex Plant

#10-002, 11-009, 12-013, 12-078, 12-R-078

Amarillo Co: Carson TX 79120-

Landholding Agency: Energy

Property Number: 41200410003

Status: Unutilized

Reasons: Within 2000 ft. of flammable or explosive material, Secured Area

Virginia

Bldgs. 3375, 3610-3612

Naval Amphibious Base

Little Creek

Norfolk Co: VA 23521-

Landholding Agency: Navy

Property Number: 77200410001

Status: Excess

Reason: Extensive deterioration

Land (by State)

Arizona

Pump House Buffer Zone

S. Ave. A

Yuma Co: AZ 85365-

Landholding Agency: GSA

Property Number: 54200410002

Status: Surplus

Reason: Within airport runway clear zone

GSA Number: 9-I-AZ-04252

Missouri

12 Missile Launch Facilities

Whiteman AFB Co: MO

Landholding Agency: GSA

Property Number: 54200410005

Status: Surplus

Reason: subsurface disturbance not allowed

GSA Number: 7DC006570669

[FR Doc. 04-1393 Filed 1-22-04; 8:45 am]

BILLING CODE 4210-29-M